FEDERAL RESERVE SYSTEM

Agency information collection activities: Announcement of Board approval under delegated authority and submission to OMB

AGENCY: Board of Governors of the Federal Reserve System.

SUMMARY: Background.

Notice is hereby given of the final approval of proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer --Michelle Shore--Division of Research and Statistics, Board of Governors of the Federal Reserve System, Washington, DC 20551 (202-452-3829).

OMB Desk Officer--Mark Menchik--Office of Information and Regulatory Affairs, Office of Management and Budget, New Executive Office Building, Room 10235, Washington, DC 20503, or e-mail to mmenchik@omb.eop.gov.

Final approval under OMB delegated authority of the extension for three years, with revision, of the following reports

1. Report title: Weekly Report of Assets and Liabilities for Large Banks and Weekly Report of Selected Assets

Agency form number: FR 2416 and FR 2644

OMB Control number: 7100-0075

Frequency: Weekly

Reporters: U.S.-chartered commercial banks

Annual reporting hours: FR 2416, 22,386 hours; FR 2644, 80,652 hours

Estimated average hours per response: FR 2416, 8.61 hours; FR 2644, 1.41 hours

Number of respondents: FR 2416, 50; FR 2644, 1,100

General description of report: These information collections are voluntary [12 U.S.C. § 225(a) and 248(a)(2)]. Individual respondent data are regarded as confidential under the Freedom of Information Act [5 U.S.C. § 552(b)(4)].

Abstract: The FR 2416, FR 2644, and the Weekly Report of Assets and Liabilities for Large U.S. Branches and Agencies of Foreign Banks (FR 2069; OMB No. 7100-0030) are referred to collectively as the bank credit reports. The FR 2416 is a detailed balance sheet that covers domestic offices of large U.S.-chartered commercial banks. The FR 2644 collects less-detailed information on investments, loans, total assets, and several memoranda items, covering domestic offices of small U.S.-chartered commercial banks. The bank credit reports are collected as of each Wednesday.

These three voluntary reports are mainstays of the Federal Reserve's reporting system from which data for analysis of current banking developments are derived. The FR 2416 is used on a stand-alone basis as the large domestic bank series. The FR 2644 collects sample data, which are used to estimate universe levels using data from the quarterly commercial bank Consolidated Reports of Condition and Income (FFIEC 031 and 041; OMB No. 7100-0036) (Call Report). Data from the bank credit reports, together with data from other sources, are used for constructing weekly estimates of bank credit, of sources and uses of bank funds, and of a balance sheet for the banking system as a whole.

The Federal Reserve publishes the data in aggregate form in the weekly H.8 statistical release, Assets and Liabilities of Commercial Banks in the United States, which is followed closely by other government agencies, the banking industry, the financial press, and other users. This release provides a balance sheet for the banking industry as a whole and data disaggregated by its large domestic, small domestic, and foreign-related components.

Current Actions: On January 11, 2007, the Federal Reserve published a notice in the Federal Register (72 FR 1325) requesting public comment for 60 days on the extension, with revision, of the FR 2416 and FR 2069. The comment period for this notice expired on March 12, 2007. The Federal Reserve received one supportive comment letter from a federal agency describing its use of the data to prepare monthly, quarterly, and annual estimates of personal interest payments, a component of personal outlays in the national income and product accounts.

2. Report title: Weekly Report of Assets and Liabilities for Large U.S. Branches and Agencies of Foreign Banks

Agency form number: FR 2069

OMB Control number: 7100-0030

Frequency: Weekly

Reporters: U.S. branches and agencies of foreign banks

Annual reporting hours: 14,560 hours

Estimated average hours per response: 4.00 hours

Number of respondents: 70

General description of report: This information collection is voluntary [12 U.S.C. §§ 248(a)(2) and 3105(a)(2)]. Individual respondent data are regarded as confidential under the Freedom of Information Act [5 U.S.C. § 552(b)(4)].

Abstract: The FR 2069 is a detailed balance sheet that covers large U.S. branches and agencies of foreign banks. This report, along with the FR 2416 and FR 2644, is collected as of each Wednesday.

These three voluntary reports are mainstays of the Federal Reserve's reporting system from which data for analysis of current banking developments are derived. The FR2069 collects sample data, which are used to estimate universe levels using data from the quarterly Report of Assets and Liabilities of U.S. Branches and Agencies of Foreign Banks (FFIEC 002; OMB No. 7100-0032). Data from the bank credit reports, together with data from other sources, are used for constructing weekly estimates of bank credit, of sources and uses of bank funds, and of a balance sheet for the banking system as a whole.

The Federal Reserve publishes the data in aggregate form in the weekly H.8 statistical release, Assets and Liabilities of Commercial Banks in the United States, which is followed closely by other government agencies, the banking industry, the financial press, and other users. This release provides a balance sheet for the banking industry as a whole and data disaggregated by its large domestic, small domestic, and foreign-related components.

Current Actions: On January 11, 2007, the Federal Reserve published a notice in the Federal Register (72 FR 1325) requesting public comment for 60 days on the extension, with revision, of the FR 2069. The comment period for this notice expired on March 12, 2007. The Federal Reserve did not receive any comments.

3. Report titles: Report of Changes in Organizational Structure, Annual Report of Bank Holding Companies

Agency form numbers: FR Y-10 and FR Y-6

OMB Control numbers: 7100-0297

Effective Dates: FR Y-6, December 31, 2007; FR Y-10, April 30, 2008

Frequency: Event-generated, annual

Reporters: Bank holding companies (BHCs), foreign banking organizations (FBOs), member banks, Edge and agreement corporations

Annual reporting hours: FR Y-10, 16,608 hours; FR Y-6, 27,069 hours

Estimated average hours per response: FR Y-10, 1.00 hour; FR Y-6, 5.25 hours;

Number of respondents: FR Y-10, 2,768; FR Y-6, 5,156

General description of report: These information collections are mandatory under the Federal Reserve Act, the BHC Act, and the International Banking Act (12 U.S.C. 248 (a)(1), 321, 601, 602, 611a, 615, 1843(k), 1844(c), and 3106, and Regulations K and Y (12 CFR 211.13(c), 225.5(b), and 225.87). Individual respondent data are not considered confidential. However, respondents may request confidential treatment for any information that they believe is subject to an exemption from disclosure under the FOIA, 5 U.S.C. § 552(b).

Abstract: The FR Y-10 is an event-generated information collection submitted by top-tier domestic BHCs, including financial holding companies (FHCs), and state member banks unaffiliated with a BHC, to capture changes in their regulated investments and activities. The Federal Reserve uses the data to monitor structure information on subsidiaries and regulated investments of these entities engaged in banking and nonbanking activities.

The FR Y-6 is an annual information collection submitted by top-tier BHCs and nonqualifying FBOs. It collects financial data, an organization chart, and information about shareholders. The Federal Reserve uses the data to monitor holding company operations and determine holding company compliance with the provisions of the BHC Act and Regulation Y (12 CFR 225).

Current Actions: On September 13, 2006, the Federal Reserve published a notice in the Federal Register (71 FR 54075) requesting public comment for 60 days on the extension, with revision, of the Structure Reports.¹ The comment period for this notice expired on November 13, 2006. The Board received comment letters from four large BHCs and three industry trade associations. Most of these comments were addressed in a final Federal Register notice dated December 28, 2006 (71 FR 78207). In this notice, the Federal Reserve stated that it was continuing to evaluate several substantive comments on the collection of domestic branch data and would address these comments in a separate Federal Register notice in 2007. Below is a summary of the original proposal, a summary of the comments received, and the modifications to the original proposal.

¹ The Structure Reports included in the initial notice were the Report of Changes in Organizational Structure (FR Y-10), the Report of Changes in FBO Organizational Structure (FR Y-10F), the Supplement to the Report of Changes in Organizational Structure (FR Y-10S), the Notification of Foreign Branch Status (FR 2058), the Annual Report of Bank Holding Companies (FR Y-6), and the Annual Report of Foreign Banking Organizations (FR Y-7).

Original Proposal

FR Y-6 Organization Chart

The Federal Reserve proposed to add to the organization chart an annual requirement for institutions to verify a list of domestic branches that the Federal Reserve has on file for the institution. The list of domestic branches would include those of depository institutions and Edge and agreement corporations held directly or indirectly by the respondent.

The Federal Reserve would provide institutions with a hardcopy of their data and, in response to industry feedback, a means for institutions to download their data in a spreadsheet format. The institutions would be required to return to the Federal Reserve an annotated document incorporating any changes or corrections to the data. The effective date for this proposed change would have been December 31, 2006.

FR Y-10 Domestic Branch Schedule

The Federal Reserve proposed to add a schedule to collect data on domestic branches and offices of depository institutions, held directly or indirectly, and domestic branches of Edge and agreement corporations. Data regarding branch openings, acquisitions, sales, closings or relocations would be collected on an event-generated basis, parallel to the other schedules on the FR Y-10, within thirty calendar days following the event. Institutions would be permitted to combine multiple transactions occurring within a 30-day period into a single monthly filing. The effective date for this proposed change would have been June 30, 2007.

Data would be submitted for the following branches and offices:

1. Full service (brick and mortar, retail) - traditional offices.

2. Electronic banking - offices where Internet and other similar deposits are booked.

3. Limited service (military, drive-through, mobile or seasonal, and retail) - limited, but often take or include deposits.

4. Loan production offices (LPOs) and consumer credit - limited, normally nondeposit, but extend credit.

5. Trust - limited and nondeposit

6. Administrative (administrative, contractual, messenger) - all other limited and nondeposit

Summary of Comments

Several commenters indicated that adding a schedule to the FR Y-10 to collect data on domestic branches would be overly burdensome and may be duplicative of other information collected by the Federal Reserve or other regulators. As explained in the initial proposal, the current process for gathering domestic branch structure data is inadequate. Branch data for domestic state member banks are communicated to the Federal Reserve primarily through the application process. Information for all other domestic bank branches (branches of national and nonmember banks) is obtained by searching Federal Deposit Insurance Corporation (FDIC) and Office of the Comptroller of the Currency (OCC) bulletins. The results of this process are data that are not consistent and are often stale. The timing and extent of notifications to various bank regulators do not allow for consistent maintenance of the data. For example, branch openings and closings are reported with different lags and through different channels. Also, domestic bank branch data are submitted to the FDIC on the Summary of Deposits (OMB No. 3064-0061) as of June 30 each year.² However, the volume of branch structure changes is large. As a result, the relevancy of the annual data substantially diminishes over time. The Federal Reserve needs a formal information collection to ensure that these data are consistent, complete, and current.

² Thrift branches are reported as of June 30 each year to the OTS, on their annual Branch Office Survey (OMB No. 1550-0004).

One commenter questioned the usefulness of the data, since only institutions regulated by the Federal Reserve would be required to submit the data. This commenter noted that the data would be incomplete for analyzing the competitive effects of proposed bank mergers and acquisitions in specific markets. As described in the original proposal, 95 percent of all domestic banking branches and 82 percent of all banking and thrift branches would be covered by this information collection. Information for the remaining small percentage of branches would continue to be collected using the current process for gathering domestic branch structure data discussed above. Although the information for these branches will not be as reliable as that obtained from the FR Y-10 respondents, the overall quality of the branch data will be dramatically improved by this framework.

Several commenters asked the Federal Reserve to coordinate with the other agencies to collect consistent structure data. The Federal Reserve acknowledges that coordination with other agencies could achieve organizational and technical efficiencies for both banking organizations and the regulatory community. The Federal Reserve has been in contact with the other agencies during the development of this proposal. Discussions among the regulatory agencies regarding possible gains from coordination, as well as changes and enhancements to the technological platforms used for the collection are ongoing.

Two commenters requested amending the information collection to allow respondents to provide their complete list of branches monthly on a separate report rather than providing changes on an event-generated basis on the FR Y-10. The Federal Reserve believes that the data would be more accurately and efficiently collected if banking organizations submit changes directly to the Federal Reserve, rather than requiring Federal Reserve staff to discern changes by comparing monthly filings. Furthermore, relative to existing branches, the number of branch openings, closings, sales, and relocations is quite small. The current proposal allows for greater flexibility in how the schedule is filed, which should allow banks to find efficient ways to transmit the data.

One commenter requested clarification of the administrative branch type. This term was defined in the draft instructions as a branch that has limited nondeposit functions, including back office operations and check processing facilities.

Modifications to the Original Proposal

In response to comments and industry feedback, the Federal Reserve approved the following modifications to the original proposal:

• Eliminating LPOs, consumer credit offices, and administrative offices from the list of reportable branches on the FR Y-6 and FR Y-10;

• Excluding from the FR Y-10 address changes that result from changes in street names or zip codes, with no actual change in the physical location of the branch;

• Making FR Y-10 reporting of branch relocations of less than 1,000 feet optional, if the move does not involve a change of county; and

• Changing the implementation dates to December 31, 2007, for the FR Y-6 revisions and April 30, 2008, for the FR Y-10 revisions.

Final approval under OMB delegated authority the implementation of the following survey:

Report title: Central Bank Survey of Foreign Exchange and Derivatives Market Activity

Agency form number: FR 3036

OMB control number: 7100-0285

Frequency: One-time

Reporters: Financial institutions that serve as intermediaries in the wholesale foreign exchange and derivatives market and dealers.

Annual reporting hours: 3,150 hours

Estimated average hours per response: Turnover survey: 51 hours; outstandings survey: 60 hours

Number of respondents: 60

General description of report: This information collection is voluntary (12 U.S.C. 225a, 248(a)(2), 358, and 3105(c)) and is given confidential treatment (5 U.S.C. § 552(b)(4)).

Abstract: The FR 3036 is the U.S. part of a global data collection that is conducted by central banks every three years. More than fifty central banks plan to conduct the survey in 2007. The Bank for International Settlements compiles national data from each central bank to produce global market statistics.

The Federal Reserve System and other government agencies use the survey to monitor activity in the foreign exchange and derivatives markets. Respondents use the published data to gauge their market share.

Current actions: On January 11, 2007, the Federal Reserve published a notice in the Federal Register (72 FR 1325) requesting public comment for 60 days on the implementation of the FR 3036 survey. The comment period for this notice expired on March 12, 2007. The Federal Reserve received no comments on the proposed survey and will implement it as proposed.

Board of Governors of the Federal Reserve System, March 16, 2007.

Jennifer J. Johnson
Secretary of the Board

[FR Doc. E7-5192 Filed 3-21-07; 8:45 am]

BILLING CODE 6210-01-S